DEPARTMENT OF ENERGY

Electricity Advisory Committee

AGENCY: Office of Electricity Delivery and Energy Reliability, Department of Energy.

ACTION: Notice of open meeting.

SUMMARY: This notice announces a meeting of the Electricity Advisory Committee (EAC). The Federal Advisory Committee Act (Pub. L. 92- 463, 86 Stat. 770) requires that public notice of these meetings be announced in the Federal Register.

DATES: Monday, June 11, 2012, 2:00 p.m.-5:00 p.m. (EST), Tuesday, June 12, 2012, 8:00 a.m.-4:00 p.m. (EST).

ADDRESSES: Capitol Hilton, 1001 16th Street NW., Washington, DC 20036.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or Email: matthew.rosenbaum@hq.doe.gov.

SUPPLEMENTARY INFORMATION: Purpose of the Committee: The Electricity Advisory Committee (EAC) was re-established in July 2010, in accordance with the provisions of the Federal Advisory Committee Act (FACA), as amended, 5 U.S.C., App. 2, to provide advice to the U.S. Department of Energy (DOE) in implementing the Energy Policy Act of 2005, executing the Energy Independence and Security Act of 2007, and modernizing the Nation's electricity delivery infrastructure. The EAC is composed of individuals of diverse background selected for their technical expertise and experience, established records of distinguished professional service, and their knowledge of issues that pertain to electricity.

Tentative Agenda

Tentative Agenda: June 11, 2012

1:30 to 2:00 p.m. Registration

2:00 to 2:30 p.m. Welcome, Introductions and Developments

Richard Cowart, EAC Chair and David Meyer, EAC Designated Federal Official

2:30 to 2:50 p.m. Update on the U.S. Department of Energy (DOE), Office of Electricity Delivery and Energy Reliability's (OE) 2012 Current Programs and Initiatives

Honorable Patricia Hoffman, Assistant Secretary for Electricity Delivery and Energy Reliability, U.S. Department of Energy (invited)

2: 50 to 3:10 p.m. Strategic Plan for DOE OE—Presentation

Bill Parks, Senior Technical Advisor, DOE- OE (invited)

3:10 to 3:30 p.m. Discussion of DOE Initiatives and DOE Strategic Themes

3:40 to 4:45 p.m. Workforce Panel—Where are the Critical Gaps? What can be Done About it?

Wanda Reder, Chair. Panelists will include:

• Barbara Kenny, National Science Foundation (accepted)

• Ann Randazzo, Center for Energy Workforce Development (accepted)

• Gil Bindewald, DOE-OE (invited)

4:45 to 5:00 p.m. EAC Member Discussion of Key Work Force Issues and the Workforce Group's Proposed Whitepaper

5:00 to 5:10 p.m. Wrap up

Richard Cowart, EAC Chair

5:10 p.m. Adjourn Day One of EAC Meeting

June 12, 2012

8:00 to 9:00 a.m. Microgrids Panel—How Could Microgrids Alter the Face of the Electricity Industry? How Soon?

Ralph Masiello, Chair, EAC Storage Subcommittee Chair. Panelists to include:

• Dr. Jeff Marqusee, DOD/OSD

• Will Agate, Vice President, PIDC (Philadelphia Navy Yard)

• Angie Beehler, Walmart (Invited)

9:00 to 9:20 a.m. EAC Discussion of Microgrids Impacts and Possible Next Steps for the EAC

9:20 to 9:45 a.m. EAC Transmission Subcommittee 2012 Work Plan Status

Mike Heyeck, EAC Transmission Subcommittee Chair. Panelists to include:

—Technology (PMU/EMS) work

—Grid Resiliency Work—focus on aging assets in 2012

—PMA Support—Using public process (Cavanagh, Weedall lead)

9:45 to 10:00 a.m. EAC Discussion of Transmission Subcommittee Topics

10:00 to 10:15 a.m. Break

10:00 to 10:45 a.m. Interoperability Panel: Getting All the Devices to Talk to Each Other

Presentation by Gridwise Architecture Council, Erich Gunther, Chairman

10:45 to 11:00 a.m. EAC Discussion of Interoperability Issues and Next Steps for the EAC

11:00 to 11:30 a.m. EAC Smart Grid Subcommittee Work Plan Status

Wanda Reder, EAC Smart Grid Subcommittee Chair

—Leveraging findings from ARRA SGIG/SGDP projects

—Developing recommendations to advance the smart grid industry

11:30 to 11:50 a.m. EAC Discussion and Approval of Smart Grid Subcommittee Work Plan

11:50 a.m. to 12:15 p.m. Prior to Lunch—EAC Members Only

Annual Ethics Briefing for EAC Members, Brian Plesser, Attorney Advisor, DOE Office of General Counsel

12:15 to 1:30 p.m. Lunch on Your Own—Local Restaurants

1:30 to 2:30 p.m. EAC Storage Subcommittee Work Plan Status

Ralph Masiello, EAC Storage Subcommittee Chair

—Status of Report to Congress/Coordination with DOE

○ Detailed discussion of report outline/status

—Large Scale Storage Integration

2:30 to 2:50 p.m. EAC Discussion of Storage Subcommittee Plan for 2012

2:50 to 3:10 p.m. Break

3:10 to 3:30 p.m. Public Comments

Must register at time of check-in

3:30 to 3:45 p.m. Wrap-up of EAC Meeting

Richard Cowart, EAC Chair

3:45 p.m. Adjourn

The meeting agenda may change to accommodate EAC business. For EAC agenda updates, see the EAC Web site at: http://www.oe.energy.gov/eac.htm.

Public Participation: The EAC welcomes the attendance of the public at its meetings. Individuals who wish to offer public comments at the EAC meeting may do so on Tuesday, June 12, 2012, but must register at the registration table in advance. Approximately 15 minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum.

You may submit comments, identified by “Electricity Advisory Committee Open Meeting,” by any of the following methods:

• Mail/Hand Delivery/Courier: Matthew Rosenbaum, Office of Electricity Delivery and Energy Reliability, U.S. Department of Energy, Forrestal Building, Room 8G-017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments. Instructions: All submissions received must include the agency name and identifier. All comments received will be posted without change to http://www.oe.energy.gov/eac.htm, including any personal information provided.

• Docket: For access to the docket, to read background documents or comments received, go to http://www.oe.energy.gov/eac.htm.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

The EAC will also hold meetings in Washington, DC on October 15-16, 2012. The venue and agenda will be provided in future notices.

Note: Delivery of the U.S. Postal Service mail to DOE may be delayed by several weeks due to security screening. The Department, therefore, encourages those wishing to comment to submit comments electronically by email. If comments are submitted by regular mail, the Department requests that they be accompanied by a CD or diskette containing electronic files of the submission.

Minutes: The minutes of the EAC meeting will be posted on the EAC Web page at http://energy.gov/oe/services/electricity-advisory-committee-eac. They can also be obtained by contacting Mr. Matthew Rosenbaum at the address above.

Dated: Issued in Washington, DC, on May 15, 2012.
LaTanya R. Butler,
Acting Deputy Committee Management Officer.

[FR Doc. 2012-12217 Filed 5-18-12; 8:45 am]

BILLING CODE 6450-01-P